DEPARTMENT OF COMMERCE

National Telecommunications and Information Administration

Agency Information Collection Activities; Submission to the Office of Management and Budget (OMB) for Review and Approval; Comment Request; State Digital Equity Capacity Grant Program

AGENCY: National Telecommunications and Information Administration (NTIA), Department of Commerce.

ACTION: Notice of information collection, request for comment.

SUMMARY: The Department of Commerce, in accordance with the Paperwork Reduction Act of 1995 (PRA), invites the general public and other Federal agencies to comment on proposed and continuing information collections, which help us assess the impact of our information collection requirements and minimize the public's reporting burden. The purpose of this notice is to allow for 60 days of public comment preceding submission of the collection to OMB.

DATES: To ensure consideration, comments regarding this proposed information collection must be received on or before January 28, 2025.

ADDRESSES: Interested persons are invited to submit comments to Angela Bennett, Director of Digital Equity, Office of internet Connectivity and Growth, National Telecommunication and Information Administration by email to digitalequity@ntia.gov or to PRAcomments@doc.gov. Please reference “FY25 DE Capacity Application Forms Comment” in the subject line of your comments. Do not submit Confidential Business Information or otherwise sensitive or protected information.

FOR FURTHER INFORMATION CONTACT: Requests for additional information or specific questions related to collection activities should be directed to Angela Bennett, Director of Digital Equity, Grants Management and Compliance, by mail to1401 Constitution Avenue NW, Room 4826, Washington, DC 20230, via telephone (202) 389-2723, or via email at digitalequity@ntia.gov.

SUPPLEMENTARY INFORMATION:

I. Abstract

The Infrastructure Investment and Jobs Act (Infrastructure Act or Act) ¹ provided $65 billion of funding for programs to close the digital divide and ensure that all Americans have access to affordable, reliable, high-speed internet. NTIA administers multiple broadband connectivity grant programs funded by the Act, including the State Digital Equity Capacity Grant Program (SDECG). The purpose of the SDECG is to promote the achievement of digital equity, support digital inclusion activities, and build capacity for efforts by States and U.S. territories and possessions relating to the adoption of broadband.² The SDECG will provide new federal funding in fiscal year 2025 for grants to eligible applicants for the purpose of implementing the State Digital Equity Plans developed by States and U.S. Territories under the State Digital Equity Planning Grant Program ³ and pursuing digital inclusion activities..

¹ The Infrastructure Investment and Jobs Act of 2021, Division F, Title III, Public Law 117-58, 135 Stat. 429, 1209 (November 15, 2021).

² 47 U.S.C. 1723(a)(1)(A).

³ 47 U.S.C. 1723(c).

NTIA will use the information collected from each applicant to the SDECG to effectively review the proposed applications and budgets from States and U.S. territories and possessions for the State Digital Equity Capacity Program.

II. Method of Collection

NTIA will collect data through electronic submission.

III. Data

OMB Control Number: 0660-XXXX.

Form Number(s): TBD.

Type of Review: Regular submission for a new information collection.

Affected Public: States and territories or possessions of the United States applying for Infrastructure Act State Digital Equity Capacity Grant Program funding.

Estimated Number of Respondents: 56.

Estimated Time per Response: 10 hours.

Estimated Total Annual Burden Hours: 560 hours.

Estimated Total Annual Cost to Public: $26,096.00.

Respondent's Obligation: Mandatory.

Legal Authority: 47 U.S.C. 1723(c) & (d).

IV. Request for Comments

We are soliciting public comments to permit the Department/Bureau to:

(a) Evaluate whether the proposed information collection is necessary for the proper functions of the Department, including whether the information will have practical utility.

(b) Evaluate the accuracy of our estimate of the time and cost burden for this proposed collection, including the validity of the methodology and assumptions used.

(c) Evaluate ways to enhance the quality, utility, and clarity of the information to be collected.

(d) Minimize the reporting burden on those who are to respond, including the use of automated collection techniques or other forms of information technology.

Comments that you submit in response to this notice are a matter of public record. We will include or summarize each comment in our request to OMB to approve this information collection request (ICR). Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-27800 Filed 11-27-24; 8:45 am]

BILLING CODE 3510-60-P